GENERAL SERVICES ADMINISTRATION

[Notice-IE-2024-03; Docket No. 2024-0001; Sequence No. 9]

Privacy Act of 1974; Rescindment of a System of Records

AGENCY: Office of the Chief Privacy Officer; General Services Administration, (GSA).

ACTION: Rescindment of a system of records notice.

SUMMARY: Pursuant to the Privacy Act of 1974 and Office of Management and Budget (OMB) Circular No. A-108, notice is hereby given that the GSA proposes to rescind the GSA/Transit-1, Transportation Benefits Records, System of Records Notice (SORN). This system of records contains information entered by GSA and provides transportation fringe benefits to employees who use mass transportation to commute to and from work.

DATES: Effective immediately.

ADDRESSES: Comments may be submitted to the Federal eRulemaking Portal, http://www.regulations.gov. Submit comments by searching for Notice-IE-2024-03, GSA/Transit-1.

FOR FURTHER INFORMATION CONTACT: Call or email Richard Speidel, Chief Privacy Officer at 202-969-5830 and gsa.privacyact@gsa.gov.

SUPPLEMENTARY INFORMATION: GSA proposes to rescind a System of Records, GSA/Transit-1. This Notice is being rescinded due to the records of GSA/Transit-1 being maintained under DOT/ALL-8, Parking and Transit Benefit System, managed by the Department of Transportation (DOT). The records under GSA/Transit-1 were transitioned to the DOT in 2017 and are now being maintained under DOT/ALL-8.

System Name and Number:

Transportation Benefits Records, GSA/TRANSIT-1.

History:

A SORN was previously published in the Federal Register at 76 FR 56762 on October 14, 2011.

Richard Speidel,
Chief Privacy Officer, Office of the Deputy Chief Information Officer, General Services Administration.

[FR Doc. 2024-07430 Filed 4-8-24; 8:45 am]

BILLING CODE 6820-AB-P